FEDERAL COMMUNICATIONS COMMISSION

47 CFR Parts 1, 24, 63, and 79

[GN Docket No. 25-133; FCC 25-40; FR ID 306663]

Delete, Delete, Delete; Removal of Obsolete Regulations

AGENCY: Federal Communications Commission.

ACTION: Direct final rule.

SUMMARY: In this document, the Federal Communications Commission acts to eliminate certain outdated, obsolete, and unnecessary rules.

DATES: This rule is effective October 3, 2025 without further action, unless significant adverse comment is received August 14, 2025. In the event the Commission receives significant adverse comments, the Commission will publish a timely withdrawal in the Federal Register informing the public the provisions of the rule(s) for which adverse comment were received and will not take effect.

ADDRESSES: You may submit comments, identified by GN Docket No. 25-133, electronically or on paper. See SUPPLEMENTARY INFORMATION for specific information and addresses for electronic or paper filings.

FOR FURTHER INFORMATION CONTACT: Marcus Maher, Federal Communications Commission, Office of General Counsel. Email: Marcus.Maher@fcc.gov; telephone: (202) 418-2339.

SUPPLEMENTARY INFORMATION: This is a summary of the direct final rule portion of the Commission's Direct Final Rule, GN Docket No. 25-133; FCC 25-40, adopted on July 24, 2025, and released on July 28, 2025. The full text of this document is available for public inspection and can be downloaded at https://www.fcc.gov/document/fcc-deletes-obsolete-telegraph-rabbit-ear-receiver-phone-booth-rules-0. Alternative formats are available for people with disabilities (Braille, large print, electronic files, audio format) by sending an email to fcc504@fcc.gov or calling the Commission's Consumer and Governmental Affairs Bureau at (202) 418-0530 (voice), (202) 418-0432 (TTY).

Comment Period and Filing Procedures. Interested parties may file comments on or before the dates provided in the DATES section of this document. Comments must be filed in GN Docket No. 25-133. Comments may be filed using the Commission's Electronic Comment Filing System (ECFS). See Electronic Filing of Documents in Rulemaking Proceedings, 63 FR 24121 (1998).

• All filings must be addressed to the Commission's Secretary, Office of the Secretary, Federal Communications Commission.

• Electronic Filers: Comments may be filed electronically using the internet by accessing the ECFS: https://www.fcc.gov/ecfs/.

Paper Filers: Parties who choose to file by paper must file an original and one copy of each filing. If more than one docket or rulemaking number appears in the caption of this proceeding, filers must submit two additional copies for each additional docket or rulemaking number.

• Commercial overnight mail (other than U.S. Postal Service Express Mail and Priority Mail) must be sent to 9050 Junction Drive, Annapolis Junction, MD 20701.

• U.S. Postal Service first-class, Express, and Priority mail must be addressed to 45 L Street NE, Washington, DC 20554.

Procedural Matters

Paperwork Reduction Act. This document does not contain new or modified information collections subject to the Paperwork Reduction Act of 1995 (PRA), 44 U.S.C. 3501-3521. In addition, therefore, it does not contain any new or modified information collection burden for small business concerns with fewer than 25 employees, pursuant to the Small Business Paperwork Relief Act of 2002, 44 U.S.C. 3506(c)(4).

Congressional Review Act. The Commission has determined, and the Administrator of the Office of Information and Regulatory Affairs, Office of Management and Budget concurs, that this rule is “non-major” under the Congressional Review Act, 5 U.S.C. 804(2). The Commission will send a copy of this Direct Final Rule to Congress and the Government Accountability Office pursuant to 5 U.S.C. 801(a)(1)(A).

Synopsis

I. Introduction

Today marks the next step in a bold initiative to modernize the Commission's regulatory framework and pave the way for the next generation of innovation. In this proceeding, we have launched a sweeping review eventually aimed at eliminating outdated rules, reducing unnecessary regulatory burdens, accelerating infrastructure deployment, promoting network modernization, and spurring innovation. Our goal is clear: streamline, simplify, and smartly deregulate across multiple fronts simultaneously to better serve the public and support technological progress.

In initiating this proceeding, we generally sought to identify rules that are outdated, obsolete, unlawful, anticompetitive, or otherwise no longer in the public interest. In today's item, we specifically focus on the repeal of certain rules for which prior notice and comment are unnecessary, but for which we elect to provide an opportunity for input on that assessment. Absent any significant adverse comments in response to this Direct Final Rule, these rules will be repealed. Pursuant to the framework established here, direct final rule procedures also can be employed in the future in other scenarios where prior notice and comment is unnecessary under the Administrative Procedure Act (APA). We thus reject commenters' unwarranted concerns that direct final rule procedures will be employed by the Commission outside scenarios where prior notice and comment is unnecessary under the APA. Where deregulation triggers the notice-and-comment rulemaking process required by the APA, the Commission will proceed in that manner, just as it is doing with respect to other deregulatory items this month on which the full Commission will vote.

II. Discussion

Good Cause to Forgo Notice and Comment. Under the APA, when an agency for “good cause” finds that notice and public comment “are impracticable, unnecessary, or contrary to the public interest,” it need not follow notice and comment procedures before modifying or repealing rules. Prior notice and comment are “unnecessary” when “‘the administrative rule is a routine determination, insignificant in nature and impact, and inconsequential to the industry and to the public.’”

We have identified 11 rule provisions—covering 39 regulatory burdens, 7,194 words, and 16 pages—that plainly do not serve the public interest any longer because they govern obsolete technology, outdated marketplace conditions, expired deadlines, or repealed legal obligations. Applying the “good cause” standard discussed above, we conclude that prior notice and comment are unnecessary before repealing the rules identified in this document.

Direct Final Rule Process. At times when the Commission has found prior notice and comment unnecessary before modifying or repealing rules, it simply adopted the relevant rule change without any additional process. Although we reserve the right to proceed in that manner, we elect in this decision to proceed using what commonly is known as a “direct final rule” process. Although the FCC is not bound by the Administrative Conference of the United States' (ACUS's) direct final rule recommendations or the practices employed by other agencies, we have considered them to the extent that they provided a useful point of reference subject to tailoring appropriate to our specific circumstances.

By proceeding through a direct final rule, the Commission chooses to provide expanded opportunities for public comment when it is not legally required to do so under the “good cause” standard. We thus reject claims that our actions somehow seek to evade the APA or neglect the proper importance of notice and comment. Further, although the Commission has adopted specific rules codified in the Code of Federal Regulations related to notice-and-comment rulemaking procedures, there is no legal requirement that we adopt rules before employing processes permitted by the APA and the Communications Act.

Under a direct final rule process, rule changes are adopted without prior notice and comment, but accompanied by an opportunity for the public to file comments—and if we conclude that significant adverse comments have been filed, the relevant rule changes would not take effect until after a full notice and comment process.

In particular, we will publish this item adopting direct final rules in the Federal Register, and allow for comment from interested parties within 10 days of Federal Register publication. Although some commenters advocate for a longer comment period such as the 30 day period reflected in ACUS's recommendations, we are not persuaded to adopt such timeframes for this particular direct final rule. Under the APA's good cause exception, we would have been justified proceeding immediately to rule as we have in the past without providing an opportunity for comment, but have elected to employ direct final rule procedures to guide future action. An unnecessarily long comment period would simply represent an unwarranted penalty on the Commission for electing to pursue this approach. And given the discrete number of rules and rationales for repeal implicated in this order, we are not persuaded that a longer comment cycle is needed. That is particularly true where, as here, advocates for groups that might be interested in the rules at issue have shown themselves to already be well aware of the contemplated changes even before adoption of the direct final rule, let alone Federal Register publication. In different circumstances in the future, such as where there is a significantly larger number of rules at issue (many or all of which require more involved analyses in support of repeal under the good cause exception), we remain able to adopt longer comment periods if warranted.

Until 10 days after Federal Register publication, this shall be a “permit-but-disclose” proceeding for purposes of our ex parte rules. Because this comment process is directed toward the discrete objective of the direct final rule process, and to avoid unwarranted delay in that process, we prohibit filings addressing the rule changes contemplated in this Direct Final Rule more than 10 days after Federal Register publication, absent further direction from the Commission published in the Federal Register. Up until that date, we find it in the public interest to continue to operate under permit-but-disclosure procedures in this regard, consistent with the status of the In Re: Delete, Delete, Delete proceeding more generally. This both accords with the purpose of the comment process for direct final rules, and is similar (though not identical) to actions the Commission has taken in other contexts to provide a defined end-point for public filings to enable the Commission to focus its attention on the submissions already before it. Although in this instance no filings will be permitted after 10 days from Federal Register publication, we create a limited carve-out that allows a petition for reconsideration of this action to be filed 30 days after Federal Register publication, consistent with the requirements of section 405(a) of the Communications Act. In the event that a petition for reconsideration is filed, we will subsequently specifically address any comment process associated with such a petition.

The direct final rules will be effective 60 days after Federal Register publication. To the extent that the Commission receives comments on these direct final rules, we will evaluate whether they are significant adverse comments that warrant further procedures before changing the rules. In our assessment, we plan to be guided by ACUS's recommendation that “[a]n agency should consider any comment received during direct final rulemaking to be a significant adverse comment if the comment explains why: a. The [direct final] rule would be inappropriate, including challenges to the rule's underlying premise or approach; or b. The [direct final] rule would be ineffective or unacceptable without a change.” The touchstone for analysis is whether a comment materially calls into question the conclusion that prior notice and comment is unnecessary under the APA, which is the predicate for use of direct final rule procedures. While we expect the formulation provided by ACUS to be a useful guide for conducting that analysis, our statutory determination of “good cause” to forgo notice and comment ultimately represents the critical issue, rather than the particular language used by ACUS.

In the event that we conclude that significant adverse comments have been filed, the Bureaus and Offices responsible for the rules subject to this Direct Final Rule will publish a timely withdrawal in the Federal Register so that this Direct Final Rule does not become effective until any appropriate additional procedures have been followed. If significant adverse comments are filed only with respect to a subset of the rule revision(s) addressed by this Direct Final Rule, the pertinent Bureaus and Offices will withdraw the portions of the Direct Final Rule that were subject to significant adverse comments. For example, if a significant adverse comment is filed regarding a single rule within a direct final rule addressing multiple rules, we will publish a withdrawal addressing only that rule. We disagree with any suggestion that the Commission may not evaluate what procedural path to take after a particular rule change has been withdrawn. It would be an unwarranted deterrent to the use of direct final rule procedures if, after withdrawing a rule change that was subject to a significant adverse comment, the agency was precluded from relying on procedures that otherwise would have been available but for its initial direct final rule—including not only notice and comment rulemaking, but potentially other procedures such as a new direct final rule, an interim final rule, or some other approach.

In the event that no comments are filed in response to this Direct Final Rule, we do not anticipate publishing a confirmation of the effective date in the Federal Register, but simply will allow the rule changes to take effect as originally specified. We reject calls to delay the effective date of the rule changes here simply because the Commission does not plan to publish a confirmation notice that rule changes will take effect as contemplated by the Direct Final Rule. ACUS recommends merely that agencies “consider” a longer effective date where no confirmation notice is published if the agency needs to ensure it has adequate time to withdraw the rule in the event it receives significant adverse comments. Thus, the additional time is for the benefit of the agency, not the public. Particularly where we are repealing rules—and thus no regulated entities will be required to come into compliance with new duties—on grounds like those relied upon here, we are not persuaded by generic requests for additional time that a lengthier effective date actually is needed.

Where comments are filed, but none of the comments are significant adverse comments, where warranted by the record the pertinent Bureaus and Offices will issue a Public Notice that will briefly explain why any comments filed were not determined to be significant adverse comments. Although the PN is a document in a non-notice and comment rulemaking proceeding, nothing in that document is required to be published in the Federal Register by the Administrative Procedure Act given that the PN is not itself adopting new or modified rules. As a result, the Commission also need not publish the PN in the Federal Register to establish the date of “public notice” for the PN under § 1.4(b)(1) of the rules—which is limited to documents in rulemaking proceedings “required by the Administrative Procedure Act, 5 U.S.C. 552, 553, to be published in the Federal Register”—and instead the date of public notice of these PNs will be the release date. Although some commenters suggest that the failure to publish this Public Notice in the Federal Register stands in contrast to what ACUS recommends, the ACUS recommendation does not contemplate such an explanation being issued at all—let alone one published in the Federal Register. Indeed, the ACUS recommendation recognizes even publication of a confirmation notice in the Federal Register—let alone an associated explanation—as optional. We thus are not persuaded that it would serve the public interest—including the efficiency goals of this proceeding—to voluntarily elect to publish such Public Notices in the Federal Register.

Although the Commission has a history of seeking to eliminate outdated, inappropriate, or otherwise unwarranted regulations, including by actions on delegated authority, we elect to take this step at the full Commission level.

Finally, in specifying the mechanics of the direct final rule process as it will be used by the full Commission, we again rely on the notice and comment exception for rules of “agency organization, procedure, or practice.” The procedures to be followed in direct final rulemaking bear simply on how parties will interact with the agency, and not on any substantive duties or obligations. This fits comfortably within the APA's notice and comment exception for rules of “agency organization, procedure, or practice.”

Although we do not foreclose the possibility of adopting codified rules governing direct final rule procedures in the future, we believe that whether any new procedures are needed to “best conduce to the proper dispatch of business and to the ends of justice” most effectively can be discerned based on practical Commission experience, rather than speculation. In the meantime, the use of direct final rule procedures as established by this Direct Final Rule will provide a useful tool to proceed with repealing outdated or unwarranted rules where prior notice and comment is unnecessary under the APA.

III. Ordering Clauses

Accordingly, it is ordered that, pursuant to sections 4(i), 4(j), 201(b), and 303(r) of the Communications Act, 47 U.S.C. 154(i), (j), 201(b), 303(r), this Direct Final Rule is adopted. Except as specified below, this Direct Final Rule shall be effective upon Federal Register publication of the rule changes set forth in this document, which also shall serve as the date of public notice of that action.

It is further ordered that the amendments of the Commission's rules as set forth in this document shall be effective 60 days after Federal Register publication. In the event that significant adverse comments are filed, we direct the Bureaus and Offices responsible for the rules subject to this Direct Final Rule to publish a timely document in the Federal Register withdrawing the rule so that the rule change does not become effective until any additional procedures have been followed. In the event that significant adverse comments are filed with respect to only a subset of the rule revisions, we direct the Bureau or Office responsible for such rule revision to publish a timely document in the Federal Register withdrawing only such rule so that the rule change does not become effective until any additional procedures have been followed.

It is further ordered that the Office of the Managing Director, Performance Program Management, shall send a copy of this Direct Final Rule in a report to be sent to Congress and the Government Accountability Office pursuant to the Congressional Review Act, 5 U.S.C. 801(a)(1)(A).

List of Subjects

47 CFR Part 1

Administrative practice and procedure; Communications common carriers; reporting and recordkeeping requirements; telecommunications.

47 CFR Part 24

Personal communications services; Radio.

47 CFR Part 63

Communications common carriers; radio; reporting and recordkeeping requirements; telecommunications; telegraph and telephone.

47 CFR Part 79

Cable television operators, Communications equipment, Multichannel video programming distributors (MVPDs), Satellite television service providers, Television.

Federal Communications Commission.
Marlene Dortch,
Secretary.

Final Rules

For the reasons discussed in the preamble, the Federal Communications Commission amends parts 1, 24, 63 and 79 of Title 47 of the Code of Federal Regulations as follows:

PART 1—PRACTICE AND PROCEDURE

1. The authority citation for part 1 continues to read as follows:

Authority: 47 U.S.C. chs. 2, 5, 9, 13; 28 U.S.C. 2461 note; 47 U.S.C. 1754, unless otherwise noted.

§ 1.789 [Removed and Reserved]

2. Remove and reserve § 1.789.

PART 24—PERSONAL COMMUNICATIONS SERVICES

3. The authority citation for part 24 is revised to read as follows:

Authority: 47 U.S.C. 154, 301, 302a, 303, 309 and 332.

§§ 24.239 through 24.253 [Removed and Reserved]

4. Remove the undesignated center heading “Policies Governing Microwave Relocation From the 1850-1990 MHz Band (§§ 24.239-24.253)” before § 24.239 and remove and reserve §§ 24.239 through 24.253.

PART 63—EXTENSION OF LINES, NEW LINES, AND DISCONTINUANCE, REDUCTION, OUTAGE AND IMPAIRMENT OF SERVICE BY COMMON CARRIERS; AND GRANTS OF RECOGNIZED PRIVATE OPERATING AGENCY STATUS

5. The authority citation for part 63 continues to read as follows:

Authority: 47 U.S.C. 151, 154(i), 154(j), 160, 201-205, 214, 218, 403, 571, unless otherwise noted.

§ 63.65 [Removed and Reserved]

6. Remove and reserve § 63.65.

PART 79—ACCESSIBILITY OF VIDEO PROGRAMMING

7. The authority citation for part 79 continues to read as follows:

Authority: 47 U.S.C. 151, 152(a), 154(i), 303, 307, 309, 310, 330, 544a, 613, 617.

§ 79.101 [Removed and Reserved]

8. Remove and reserve § 79.101.

[FR Doc. 2025-14704 Filed 8-1-25; 8:45 am]

BILLING CODE 6712-01-P